DEPARTMENT OF TRANSPORTATION

National Highway Traffic Safety Administration

[U.S. DOT Docket Number NHTSA-2012-0029]

Reports, Forms, and Recordkeeping Requirements

AGENCY: National Highway Traffic Safety Administration (NHTSA), Department of Transportation (DOT).

ACTION: Request for public comment on an extension of a currently approved collection.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

DATES: Comments must be received on or before June 19, 2015.

ADDRESSES: Comments must refer to the docket notice numbers cited at the beginning of this notice and be submitted to Docket Management, 1200 New Jersey Avenue SE., West Building Ground Floor, Room W12-140, Washington, DC 20590 by any of the following methods.

• Federal e-Rulemaking Portal: http://www.regulations.gov. Follow the online instructions for submitting comments.

• Fax: 202-493-2251.

• Mail or Hand Delivery: Docket Management, U.S. Department of Transportation, 1200 New Jersey Avenue SE., West Building, Room W12-140, Washington, DC 20590, between 9 a.m. and 5 p.m., Monday through Friday, except on Federal holidays.

Instructions: For detailed instructions on submitting comments and additional information on the rulemaking process, see the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65FR 19477-78) or you may visit http://Docket Info.dot.gov.

Docket: For access to the docket to read background documents or comments received, go to the street address listed above. The internet access to the docket will be at http://www.regulations.gov. Follow the online instructions for accessing the dockets.

FOR FURTHER INFORMATION CONTACT: Michael Pyne, 202-366-4171, Office of Rulemaking (NVS-123), 1200 New Jersey Avenue SE., Room W43-457, Washington, DC 20590.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected and;

(iv) How to minimize the burden of the collection of information on those who are to respond, including the use of appropriate automated, electronic, mechanical, or other technological collection techniques or other forms of information technology, e.g., permitting electronic submission of responses.

In compliance with these requirements, NHTSA asks for public comments on the following proposed collections of information:

Title: 49 CFR 571.403, “Platform lift systems for motor vehicles,” and 49 CFR 571.404, “Platform lift installations in motor vehicles.”

OMB Control Number: 2127-0621.

Form Number: None.

Background

FMVSS No. 403 establishes minimum performance standards for platform lifts intended for installation in motor vehicles to assist wheelchair users and other persons with limited mobility in entering and leaving a vehicle. The standard's purpose is to prevent injuries and fatalities to passengers and bystanders during the operation of platform lifts. The related standard FMVSS No. 404, places specific requirements on vehicle manufacturers or alterers who install platform lifts in new vehicles. Lift manufacturers must certify that their lifts meet the requirements of FMVSS No. 403 and must declare in the owner's manual, the installation instructions, and on the operating instruction label that the lift is certified. Certification of compliance with FMVSS No. 404 is included on the vehicle certification label required on all motor vehicles under part 567 of 49 CFR. As a result of the requirements in the two standards, lift manufacturers must produce an insert that is placed in the vehicle owner's manual. They also must produce lift installation instructions, as well as either one or two labels, to be placed near the controls for the lift. The latter illustrate and describe procedures for operating the lift.

Our estimates of burden and cost to lift manufacturers to meet these requirements are given below. There is no burden to the general public.

Respondents: Platform lift manufacturers and vehicle manufacturers/alterers that install platform lifts in new motor vehicles before first vehicle sale.

Estimated Number of Respondents: 10.

Estimated Annual Burden

Estimated burden for lift manufacturers to produce an insert for vehicle owner manuals stating the lift's platform operating volume, maintenance schedule, and lift operating procedures, as applicable: 10 manufacturers × 24 hrs. amortized over 5 yrs. = 48 hours per year.

Estimated burden for lift manufacturers to produce installation instructions identifying the types of vehicles on which a lift is designed to be installed: 10 manufacturers × 24 hrs. amortized over 5 yrs. = 48 hours per year.

Estimated burden for lift manufacturers to produce a placard and/or labeling on or near the lift control panel to identify the operating functions: 10 manufacturers × 24 hrs. amortized over 5 yrs. = 48 hours per year.

Estimated burden for lift manufacturers to produce a placard and/or labeling on or near the lift control panel to identify the lift backup operating procedures: 10 manufacturers × 24 hrs. amortized over 5 yrs. = 48 hours per year.

Estimated Cost to Lift Manufacturers To Produce

Owner's manual insert—27, 398 lifts × $0.04 per page × 1 page = $1,095.92.

Lift installation instructions—27,398 lifts × $0.04 per page × 1 page ¹ = $1,095.92.

¹ Although lift installation instructions are considerably more than one page, lift manufacturers already provide lift installation instructions in the normal course of business and one additional page should be adequate to allow the inclusion of specific information required by NHTSA regulations.

Labeling/placard for lift operating procedures—27,398 lifts × $0.13 per label = $3,561.74.

Labeling/placard for lift backup operating procedures—27,398 lifts × $0.13 per label = $3,561.74.

Total estimated number of respondents: 10.

Total estimated hour burden per year = 192 hours.

Total estimated annual cost = $9,315.32.

Public Comments: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. chapter 35, as amended; and 49 CFR 1.48.

Raymond R. Posten,
Associate Administrator for Rulemaking.

[FR Doc. 2015-08961 Filed 4-17-15; 8:45 am]

BILLING CODE 4910-59-P